DEPARTMENT OF STATE

[Public Notice 4586]

United States International Telecommunication Advisory Committee; Information Meeting on the World Summit on the Information Society and the U.S. Preparatory Process

The Department of State announces a meeting of the U.S. International Telecommunication Advisory Committee (ITAC). The purpose of the Committee is to advise the Department on matters related to telecommunication and information policy matters in preparation for international meetings pertaining to telecommunication and information issues.

The ITAC will meet to discuss the matters related to the World Summit on the Information Society (WSIS), which took place in December 2003, including the follow-up to WSIS. The meeting will take place on Wednesday, February 4, 2004 from 10:30 a.m. to 12 p.m. in the auditorium of the Historic National Academy of Science Building. The National Academy of Sciences is located at 2100 C St. NW., Washington, DC.

Members of the public are welcome to participate and may join in the discussions, subject to the discretion of the Chair. Persons planning to attend this meeting should send the following data by fax to (202) 647-5957 or e-mail to jillsonad@state.gov not later than 24 hours before the meeting: (1) Name of the meeting, (2) your name, and (3) organizational affiliation. A valid photo ID must be presented to gain entrance to the National Academy of Sciences Building. Directions to the meeting location may be obtained by calling the ITAC Secretariat at 202 647-5205 or e-mail to jillsonad@state.gov.

Dated: January 12, 2004.
Anne Jillson,
Foreign Affairs Officer, Department of State.

[FR Doc. 04-1028 Filed 1-15-04; 8:45 am]

BILLING CODE 4710-07-P